DEPARTMENT OF HOMELAND SECURITY

Coast Guard

33 CFR Part 165

[Docket No. USCG-2019-0276]

Safety Zone; Commencement Bay, Tacoma, WA

AGENCY: Coast Guard, DHS.

ACTION: Notice of enforcement of regulation.

SUMMARY: The Coast Guard will enforce the safety zone regulations for the Tacoma Freedom Fair Air Show on Commencement Bay from noon until 4 p.m. on both July 3, 2019 and July 4, 2019. This action is necessary to ensure the safety of the public from inherent dangers associated with these annual aerial displays. During the enforcement period, no person or vessel may enter or transit this safety zone unless authorized by the Captain of the Port or her designated representative.

DATES: The regulations in 33 CFR 165.1305 will be enforced from noon until 4 p.m. on both July 3, 2019, and July 4, 2019.

FOR FURTHER INFORMATION CONTACT: If you have questions about this notice of enforcement, call or email Petty Officer Amy Hamilton, Sector Puget Sound Waterways Management Division, Coast Guard; telephone (206) 217-6051, email SectorPugetSoundWWM@uscg.mil.

SUPPLEMENTARY INFORMATION: The Coast Guard will enforce the safety zone in 33 CFR 165.1305 for the Tacoma Freedom Fair Air Show from noon until 4 p.m. on both July 3, 2019 and July 4, 2019. This action is being taken to provide for the safety of life on navigable waters during the air show.

The safety zone resembles a rectangle protruding from the shoreline along Ruston Way and will be marked by the event sponsor. The specific coordinates of the safety zone location is listed in 33 CFR 165.1305.

As specified in § 165.1305(c), during the enforcement period, no vessel may enter this regulated area without approval from the Captain of the Port Sector Puget Sound (COTP) or a COTP designated representative. The Captain of the Port may be assisted by other federal, state and local law enforcement agencies in enforcing this regulation.

In addition to this notice of enforcement in the Federal Register, the Coast Guard will provide the maritime community with advanced notification of enforcement of the safety zone via the Local Notice to Mariners and marine information broadcasts on the day of the event. If the COTP determines that the safety zone need not be enforced for the full duration stated in this notice of enforcement, she may use a Broadcast Notice to Mariners to grant general permission to enter the regulated area.

Dated: May 14, 2019.
L.A. Sturgis,
Captain, U.S. Coast Guard, Captain of the Port Sector Puget Sound.

[FR Doc. 2019-10417 Filed 5-17-19; 8:45 am]

BILLING CODE 9110-04-P